DEPARTMENT OF THE INTERIOR

Bureau of Land Management

[MT-070-04-1010-PH]

Notice of Public Meeting, Western Montana Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM), Western Montana Resource Advisory Council will meet as indicated below.

DATES: A meeting will be held October 21, 2004 at the BLM Butte Field Office, 106 North Parkmont, Butte, Montana beginning at 9 a.m. The public comment period will begin at 11:30 a.m. and the meeting will adjourn at approximately 3 p.m.

SUPPLEMENTARY INFORMATION: The 15-member Council advises the Secretary of the Interior, through the Bureau of Land Management, on a variety of planning and management issues associated with public land management in western Montana. At the October 21 meeting, possible topics we plan to discuss include: Updates on the Dillon, Butte and Limestone Hills planning processes, big horn sheep habitat, a possible allotment stewardship proposal, and BLM law enforcement.

All meetings are open to the public. The public may present written comments to the Council. Each formal Council meeting will also have time allocated for hearing public comments. Depending on the number of persons wishing to comment and time available, the time for individual oral comments may be limited. Individuals who plan to attend and need special assistance, such as sign language interpretation, or other reasonable accommodations, should contact the BLM as provided below.

FOR FURTHER INFORMATION CONTACT: Marilyn Krause, Resource Advisory Council Coordinator, at the Butte Field Office, 106 North Parkmont, Butte, Montana 59701, telephone 406-533-7617 or Richard Hotaling, Field Manager, Butte Field Office, telephone 406-533-7600.

Dated: July 9, 2004.
Richard Hotaling,
Field Manager.

[FR Doc. 04-16096 Filed 7-14-04; 8:45 am]

BILLING CODE 4310-$$-P